PRESIDIO TRUST

Public Health Service Hospital, The Presidio of San Francisco (Presidio), CA; Notice of Intent To Prepare a Supplemental Environmental Impact Statement and Conduct Public Scoping

AGENCY: The Presidio Trust.

ACTION: The Presidio Trust (Trust) announces, in accordance with the provisions of the National Environmental Policy Act (NEPA) (42 U.S.C. 4321 et seq.), that it is commencing preparation of a Supplemental Environmental Impact Statement (SEIS) regarding the rehabilitation and reuse of historic buildings in the Public Health Service Hospital (PHSH) district of the Presidio, and that the Trust is inviting the participation of the public and interested agencies in the scoping process. The SEIS tiers from the Final EIS for the Presidio Trust Management Plan, the Trust's comprehensive land use plan and policy framework for Area B of the Presidio, adopted in August 2002.

SUMMARY: The Trust prepared and made available to the public an Environmental Assessment (EA) for the PHSH in February 2004 (69 FR 96591). Based on the impact analysis in the EA and a review of public comments received on the document, the Trust has determined that the proposed Federal action has the potential to cause significant effects on the human environment, and that a SEIS would best achieve NEPA's goals. The EA will be used to help facilitate preparation of the SEIS, which will include new substantive environmental analyses and information in response to public comment.

The SEIS will evaluate the following alternatives:

• No-Action Alternative—Continues recent and existing activities in the PHSH district with no building rehabilitation, new construction or demolition.

• PTMP Alternative (Alternative 1)—Rehabilitates existing buildings for educational and residential uses with no new construction or demolition.

• Infill Alternative (Alternative 2)—Rehabilitates the historic buildings as well as the non-historic wings of the hospital for residential use with limited demolition and new construction.

• No Infill Alterative (Alternative 3)—Rehabilitates the historic buildings for residential use and removes the hospital's non-historic wings as well as other non-historic buildings and additions.

• Battery Caulfield Alternative (Alternative 4)—Rehabilitates the historic buildings for residential use, removes the hospital's non-historic wings as well as other non-historic buildings and additions, and provides for new construction on Battery Caulfield.

A complete description of Alternatives 1 through 4 is provided in the EA, which may be viewed at or downloaded from the Trust's Web site at http://www.presidio.gov following the link from the home page. A printed copy may be requested at no charge at 415/561-5414 or phsh@presidiotrust.gov, or by writing to the Presidio Trust, P.O. Box 29052, San Francisco, CA 94129-0052. The EA may also be reviewed in the Trust's library on the Presidio at 34 Graham Street, San Francisco, CA.

The Trust encourages all interested individuals, organizations and agencies to provide comments on the scope of the SEIS. As part of the scoping process, oral comments will be accepted from the public on the issues and choice of alternatives to be considered in the SEIS at a Trust public meeting on June 29, 2004, beginning at 6 p.m., at the Officers' Club, 50 Moraga Avenue, on the Main Post in the Presidio. Written comments may be submitted to John Pelka, NEPA Compliance Coordinator at 415/561-2790 (fax), phsh@presidiotrust.gov, or the Trust Post Office address specified above, and must be received no later than July 7, 2004. Comments previously received regarding the EA need not be repeated; these comments will inform the Trust's preparation of the Supplemental EIS. Please be aware that all written comments and information submitted will be made available to the public, including, without limitation, any postal address, e-mail address, phone number or other information contained in each submission.

The Trust will provide information updates and notices concerning the project through postings on its Web site or through its bi-monthly publication, the Presidio Post. The Trust will announce the release of the SEIS by notice in the Federal Register and Presidio Post, as well as via direct mailing and other means.

FOR FURTHER INFORMATION CONTACT: John Pelka, NEPA Compliance Coordinator, the Presidio Trust, 34 Graham Street, P.O. Box 29052, San Francisco, CA 94129-0052, 415/561-5300.

Dated: May 19, 2004.
Karen A. Cook,
General Counsel.

[FR Doc. 04-11753 Filed 5-24-04; 8:45 am]

BILLING CODE 4310-4R-P